DEPARTMENT OF TRANSPORTATION

Federal Aviation Administration

14 CFR Part 39

[Docket No. FAA-2009-1256 Directorate Identifier 2009-CE-064-AD; Amendment 39-16252; AD 2010-07-07]

RIN 2120-AA64

Airworthiness Directives; SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

It has been discovered that the foam inside the towing bar box is not conformed to the certification specification, and especially the flame resistance properties.

In case of fire in the front baggage compartment, the non conformed foam could rapidly propagate the flames and/or emit toxic fumes in the cabin.

We are issuing this AD to require actions to correct the unsafe condition on these products.

DATES: This AD becomes effective May 7, 2010.

On May 7, 2010, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Discussion

We issued a notice of proposed rulemaking (NPRM) to amend 14 CFR part 39 to include an AD that would apply to the specified products. That NPRM was published in the Federal Register on January 4, 2010 (75 FR 89). That NPRM proposed to correct an unsafe condition for the specified products. The MCAI states:

It has been discovered that the foam inside the towing bar box is not conformed to the certification specification, and especially the flame resistance properties.

In case of fire in the front baggage compartment, the non conformed foam could rapidly propagate the flames and/or emit toxic fumes in the cabin.

For the reason stated above the AD 2009-0238-E, as a temporary measure, mandated the removal of the foam, pending a foam change.

This AD revision is issued to reduce the original AD applicability and to introduce the optional installation of new foam pads in the tow bar stowage box.

Comments

We gave the public the opportunity to participate in developing this AD. We considered the comments received.

Comment Issue No. 1: Optional Final Solution

DAHER-SOCATA comments that SOCATA Service Bulletin (SB) 70-179, Amendment 1, dated January 2010, was issued. That amendment contains a final solution. If the EASA AD issues before the comment end date of the NPRM for this AD action, the commenter requests that we include the required terminating action in our AD as specified in the amended service information.

The FAA partially agrees with this comment. The FAA agrees that following the issuance of the NPRM, EASA issued a revision to the AD to allow the optional installation of new foam pads part number (P/N) T700C091000610100 in the tow bar storage box in accordance with the Accomplishment Instructions of SB No. 70-179, Amendment 1, dated January 2010. The FAA disagrees with making the installation of the new foam pads P/N T700C091000610100 a required action since the EASA AD made it an optional action.

We are changing the final rule AD action to include this option.

Comment Issue No. 2: Costs of Compliance

DAHER-SOCATA comments that the costs in the Costs of Compliance section are not in accordance with those given in the service bulletin. It would take about 10 work-minutes per product instead of .5 work-hour to remove the wrong foam pad and to replace it with the new one. The cost should be only $13 for an average labor rate and consequently $2,132 for all U.S. operators.

The FAA agrees that it would only take 10 work-minutes. However, in regards to cost, our practice is to apply .5 hour as the minimum estimated work-hour for labor. This minimum was used in determining the cost of compliance for the AD.

We are not changing this final rule AD action based on this comment.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 164 products of U.S. registry. We also estimate that it will take about .5 work-hour per product to comply with the basic requirements of this AD. The average labor rate is $85 per work-hour.

Based on these figures, we estimate the cost of this AD to the U.S. operators to be $6,970 or $42.50 per product.

In addition, we estimate that the optional follow-on action would take about .5 work-hour and require parts costing $164, for a cost of $206.50 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-07-07 SOCATA: Amendment 39-16252; Docket No. FAA-2009-1256; Directorate Identifier 2009-CE-064-AD.

Effective Date

(a) This airworthiness directive (AD) becomes effective May 7, 2010.

Affected ADs

(b) None.

Applicability

(c) This AD applies to Model TBM 700 airplanes, serial numbers (S/N) 331 through 530, 534, and 539, certificated in any category.

Subject

(d) Air Transport Association of America (ATA) Code 9: Towing and Taxiing.

Reason

(e) The mandatory continuing airworthiness information (MCAI) states:

It has been discovered that the foam inside the towing bar box is not conformed to the certification specification, and especially the flame resistance properties.

In case of fire in the front baggage compartment, the non conformed foam could rapidly propagate the flames and/or emit toxic fumes in the cabin.

For the reason stated above the Airworthiness Directive (AD), as a temporary measure, mandates the removal of the foam, pending a foam change.

Actions and Compliance

(f) Unless already done, within the next 20 hours time-in-service after May 7, 2010 (the effective date of this AD) or within the next 30 days after May 7, 2010 (the effective date of this AD), whichever occurs first, remove the foam from the towing bar stowage box following either SOCATA Mandatory Service Bulletin SB 70-179, dated October 2009, or SOCATA Mandatory Service Bulletin SB 70-179, Amendment 1, dated January 2010.

(g) You may as an option, install new foam pads part number T700C091000610100 in the tow bar storage box following the Accomplishment Instructions of SOCATA Mandatory Service Bulletin SB 70-179, Amendment 1, dated January 2010.

FAA AD Differences

Note: This AD differs from the MCAI and/or service information as follows: No differences.

Other FAA AD Provisions

(h) The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI European Aviation Safety Agency (EASA) AD No.: 2009-0238R1, dated February 11, 2010; SOCATA Mandatory Service Bulletin SB 70-179, dated October 2009, and SOCATA Mandatory Service Bulletin SB 70-179, Amendment 1, dated January 2010, for related information.

Material Incorporated by Reference

(j) You must use either SOCATA Mandatory Service Bulletin SB 70-179, dated October 2009; or SOCATA Mandatory Service Bulletin SB 70-179, Amendment 1, dated January 2010; to do the actions required by this AD, unless the AD specifies otherwise.

(1) The Director of the Federal Register approved the incorporation by reference of this service information under 5 U.S.C. 552(a) and 1 CFR part 51.

(2) For service information identified in this AD, contact DAHER-SOCATA, Direction des Services, 65921—TARBES CEDEX 9, France; telephone: +33 (0)5 62.41.73.00; fax: 33 (0)5 62.41.76.54; Internet: http://mysocata.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on March 22, 2010.
James E. Jackson,
Acting Manager, Small Airplane Directorate, Aircraft Certification Service.

[FR Doc. 2010-6788 Filed 4-1-10; 8:45 am]

BILLING CODE 4910-13-P